DEPARTMENT OF HEALTH AND HUMAN SERVICES

National Institutes of Health

Draft Report on Carcinogens Monograph on Haloacetic Acids Found as Water Disinfection By-Products; Availability of Document; Request for Comments; Notice of Peer-Review Meeting

SUMMARY: The National Toxicology Program (NTP) announces a meeting to peer review the Draft Report on Carcinogens (RoC) Monograph on Haloacetic Acids Found as Water Disinfection By-Products. The monograph was prepared by the Office of the Report on Carcinogens (ORoC), Division of the National Toxicology Program (DNTP), National Institute of Environmental Health Sciences (NIEHS). The peer review meeting is open to the public. Registration is requested for both public attendance and oral comment and required to access the webcast. Information about the meeting and registration is available at https://ntp.niehs.nih.gov/go/38853.

DATES:

Meeting: July 24, 2017, 8:30 a.m. to adjournment at approximately 4:00 p.m. Eastern Daylight Time (EDT).

Document Availability: Draft monograph should be available by June 7, 2017, at https://ntp.niehs.nih.gov/go/38853.

Written Public Comment Submissions: Deadline is July 14, 2017.

Registration for Oral Comments: Deadline is July 14, 2017.

Registration for Meeting and/or to View Webcast: Deadline is July 24, 2017. Registration to view the meeting via the webcast is required.

ADDRESSES: Meeting Location: Rodbell Auditorium, Rall Building, NIEHS, 111 T.W. Alexander Drive, Research Triangle Park, NC 27709.

Meeting Web page: The draft monograph, preliminary agenda, registration, and other meeting materials will be available at https://ntp.niehs.nih.gov/go/38853.

Webcast: The URL for viewing webcast will be provided to those who register.

FOR FURTHER INFORMATION CONTACT: Canden Byrd, ICF, 2635 Meridian Parkway, Suite 200, Durham, NC, USA 27713. Phone: (919) 293-1660, Fax: (919) 293-1645, Email: canden.byrd@icf.com.

SUPPLEMENTARY INFORMATION: Background: The RoC is a congressionally mandated, science-based, public health report that identifies agents, substances, mixtures, or exposures (collectively called “substances”) in our environment that pose a cancer hazard for people in the United States. NTP prepares the RoC on behalf of the Secretary of Health and Human Services. NTP follows an established, four-part process for preparation of the RoC (https://ntp.niehs.nih.gov/pubhealth/roc/process/index.html). For each substance selected for review, a draft RoC monograph is prepared that presents (1) information on human exposure to the substance; (2) an assessment of the evidence from cancer studies in humans and experimental animals, mechanisms of carcinogenicity, and other data relevant for evaluating the substance's potential carcinogenicity; and (3) NTP's preliminary preliminary RoC listing recommendation. The draft monograph also contains a draft profile that provides the NTP's preliminary listing recommendation for the substance and a summary of the scientific evidence considered key to reaching that recommendation.

Haloacetic acids found as drinking water by-products were selected for review following solicitation of public comment, review by the NTP Board of Scientific Counselors on April 11, 2016, and approval by the NTP Director (https://ntp.niehs.nih.gov/go/9741).

Water disinfection is among the most important and beneficial public health advances of the 20th century and has substantially reduced United States incidence of cholera, typhoid, and amoebic dysentery caused by waterborne pathogens. A consequence of the water disinfection process is formation of a large number of unintended compounds from chemicals and organic material in the water; these unintended chemicals are of potential public health concern. Haloacetic acids are the second largest group by weight (36%) of total halogenated disinfection by-products found in public water supplies. The draft RoC monograph includes a cancer hazard assessment of 13 haloacetic acids containing chlorine, bromine, or iodine, or a combination of these halogens that have been identified in disinfected water.

Meeting and Registration: The meeting is open to the public with time set aside for oral public comment; attendance at the NIEHS is limited only by the space available. Registration to attend the meeting in-person and/or view the webcast is by July 24, 2017, at https://ntp.niehs.nih.gov/go/38853. Registration is required to view the webcast; the URL for the webcast will be provided in the email confirming registration. Visitor and security information for those attending in-person is available at https://www.niehs.nih.gov/about/visiting/index.cfm. Individuals with disabilities who need accommodation to participate in this event should contact Canden Byrd by phone: (919) 293-1660 or email: canden.byrd@icf.com. TTY users should contact the Federal TTY Relay Service at (800) 877-8339. Requests should be made at least five business days in advance of the event.

The draft monograph and preliminary agenda will be available on the NTP Web site at https://ntp.niehs.nih.gov/go/38853. The draft monograph should be available by June 7, 2017. Additional information will be posted when available or may be requested in hardcopy, see FOR FURTHER INFORMATION CONTACT. Following the meeting, a report of the peer review will be prepared and made available on the NTP Web site. Individuals are encouraged to access the meeting Web page to stay abreast of the most current information regarding the meeting.

Request for Comments: NTP invites written and oral public comments on the draft monograph. The deadline for submission of written comments is July 14, 2017, to enable review by the peer review panel and NTP staff prior to the meeting. Registration to provide oral comments is by July 14, 2017, at https://ntp.niehs.nih.gov/go/38853. Public comments and any other correspondence on the draft monograph should be sent to the FOR FURTHER INFORMATION CONTACT. Persons submitting written comments should include their name, affiliation, mailing address, phone, email, and sponsoring organization (if any). Written comments received in response to this notice will be posted on the NTP Web site, and the submitter will be identified by name, affiliation, and/or sponsoring organization (if any). Guidelines for public comments are at https://ntp.niehs.nih.gov/ntp/about_ntp/guidelines_public_comments_508.pdf.

Public comment at this meeting is welcome, with time set aside for the presentation of oral comments on the draft monograph. In addition to in-person oral comments at the NIEHS, public comments can be presented by teleconference line. There will be 50 lines for this call; availability is on a first-come, first-served basis. The lines will be open from 8:30 a.m. until adjournment at approximately 4:00 p.m. EDT on July 24, 2017, although oral comments will be received only during the formal public comment periods indicated on the preliminary agenda. The access number for the teleconference line will be provided to registrants by email prior to the meeting. Each organization is allowed one time slot. At least 7 minutes will be allotted to each time slot, and if time permits, the allotment may be extended to 10 minutes at the discretion of the chair.

Persons wishing to make an oral presentation are asked to register online at https://ntp.niehs.nih.gov/go/38853 by July 14, 2017, and indicate whether they will present comments in-person or via the teleconference line. If possible, oral public commenters should send a copy of their slides and/or statement or talking points at that time. Written statements can supplement and may expand the oral presentation. Registration for in-person oral comments will also be available at the meeting, although time allowed for presentation by on-site registrants may be less than that for registered speakers and will be determined by the number of speakers who register on-site.

Background Information on the RoC: Published biennially, each edition of the RoC is cumulative and consists of substances newly reviewed in addition to those listed in previous editions. For each listed substance, the RoC contains a substance profile, which provides information on cancer studies that support the listing—including those in humans, animals, and studies on possible mechanisms of action—information about potential sources of exposure to humans, and current federal regulations to limit exposures. The 14th RoC, the latest edition, was published on November 3, 2016 (available at https://ntp.niehs.nih.gov/go/roc14).

Background Information on NTP Peer Review Panels: NTP panels are technical, scientific advisory bodies established on an “as needed” basis to provide independent scientific peer review and advise the NTP on agents of public health concern, new/revised toxicological test methods, or other issues. These panels help ensure transparent, unbiased, and scientifically rigorous input to the program for its use in making credible decisions about human hazard, setting research and testing priorities, and providing information to regulatory agencies about alternative methods for toxicity screening. NTP welcomes nominations of scientific experts for upcoming panels. Scientists interested in serving on an NTP panel should provide current curriculum vitae to the FOR FURTHER INFORMATION CONTACT (see above). The authority for NTP panels is provided by 42 U.S.C. 217a; section 222 of the Public Health Service (PHS) Act, as amended. The panel is governed by the Federal Advisory Committee Act, as amended (5 U.S.C. Appendix 2), which sets forth standards for the formation and use of advisory committees.

Dated: June 6, 2017.
John R. Bucher,
Associate Director, National Toxicology Program.

[FR Doc. 2017-13159 Filed 6-22-17; 8:45 am]

BILLING CODE 4140-01-P